Proclamation 9420 of April 8, 2016

Pan American Day and Pan American Week, 2016

By the President of the United States of America

A Proclamation

A decade before the turn of the 19th century, representatives of countries from across the Western Hemisphere formed what would become the Organization of American States, striving to ensure peace and democracy through unity and cooperation among our nations. As we mark 126 years since its founding, we also celebrate the 15th anniversary of the Inter-American Democratic Charter—a declaration of our belief in democracy as the common form of government for all countries in our hemisphere. On Pan American Day and during Pan American Week, we reflect on the progress our countries have made together, and we recommit to reaching for a brighter day for all our peoples.

Throughout our hemisphere, increased integration has generated greater growth and prosperity. Since I took office, exports and imports between the United States and the rest of the hemisphere have increased by more than 50 percent. We are involved in more trade and economic partnerships that reduce poverty, spur opportunity, and empower young people with the skills and job training they need to compete in the global economy. Our nations have partnered to develop clean, affordable, and reliable energy sources and ensure all countries have open access to data to combat climate change—a reality that threatens all our peoples and that we addressed in Paris late last year, when the world came together to negotiate the most ambitious climate agreement in history.

The nations of the Americas have made tremendous progress on important issues, and our work remains rooted in the bonds of friendship and family between our peoples. For too long, the United States and Cuba remained isolated, and while our governments will continue to have areas of disagreement, our people have long shared common values and ideals. That is why we reestablished diplomatic relations between our countries—for the first time in over 50 years, the American flag flies above our reopened embassy in Havana; and I recently visited our neighbor 90 miles to the South, becoming the first United States President to do so in nearly nine decades. By extending a new hand of friendship to the Cuban people, we mark the beginning of a relationship that will offer fresh hope for both our futures and improve the lives of those living in both our countries. Following my trip to Cuba, I visited Argentina, which has begun advancing ambitious reforms to spur economic growth and has pledged to help address important global challenges, such as peacekeeping and the Syrian refugee crisis.

Across the board, the United States has deepened our engagement in the Americas. We initiated the 100,000 Strong in the Americas initiative to encourage more exchanges between our hemisphere's students. Last year, I launched the Young Leaders of the Americas Initiative, which will address opportunity gaps that persist for too many of our neighboring nations' youth by empowering them with the tools and resources they need to reach their full potential. Just as our countries must foster hope and prosperity, we must also address serious challenges. We will continue defending and strengthening civil society, because when all our people have a voice in shaping the future of our hemisphere, we all do better. The United States is working with Colombia to reduce violence and achieve peace, as we do throughout Central America. We will also keep coordinating with the nations of the Americas to prevent, detect, and respond to the spread of Zika. And later this year, I look forward to joining other leaders of the Asia-Pacific Economic Cooperation forum in Peru for the next Economic Leaders' meeting.

Millions of people in the United States are tied to the rest of the countries in our hemisphere through commerce and family. We are more than just nations—we are neighbors, bound in common cause and possibility not by our leaders, but by the citizens of the Americas and the interests we share. Let us move forward, as one people, in a spirit of unity and cooperation. Together, we can reach a future in which every young person—from Argentina to Alaska—knows peace, dignity, and opportunity, and can embark on paths that stretch beyond their neighborhood and into the wider Western Hemisphere and the entire world.

NOW, THEREFORE, I, BARACK OBAMA, President of the United States of America, by virtue of the authority vested in me by the Constitution and the laws of the United States, do hereby proclaim April 14, 2016, as Pan American Day and April 10 through April 16, 2016, as Pan American Week. I urge the Governors of the 50 States, the Governor of the Commonwealth of Puerto Rico, and the officials of the other areas under the flag of the United States of America to honor these observances with appropriate ceremonies and activities.

IN WITNESS WHEREOF, I have hereunto set my hand this eighth day of April, in the year of our Lord two thousand sixteen, and of the Independence of the United States of America the two hundred and fortieth.

[FR Doc. 2016-08706

Filed 4-12-16; 11:15 am]

Billing code 3295-F6-P